DEPARTMENT OF COMMERCE

National Oceanic and Atmospheric Administration

RIN 0648-XC551

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an exempted fishing permit application contains all of the required information and warrants further consideration. This exempted fishing permit would facilitate compensation fishing under the monkfish Research Set-Aside Program by exempting vessels from monkfish days-at-sea possession limits. The compensation fishing is in support of a 2012 Monkfish Research Set-Aside project that is attempting to determine if monkfish constitute one or more stocks over their coast-wide distribution. The project is being conducted by the Cornell Cooperative Extension of Suffolk County Marine Program.

Regulations under the Magnuson-Stevens Fishery Conservation and Management Act require publication of this notification to provide interested parties the opportunity to comment on applications for proposed exempted fishing permits.

DATES: Comments must be received on or before April 24, 2013.

ADDRESSES: You may submit written comments by any of the following methods:

• Email: nero.efp@noaa.gov. Include in the subject line “Comments on CCE Monkfish RSA EFP.”

• Mail: John K. Bullard, Regional Administrator, NMFS, Northeast Regional Office, 55 Great Republic Drive, Gloucester, MA 01930. Mark the outside of the envelope “Comments on CCE monkfish RSA EFP.”

• Fax: (978) 281-9135.

FOR FURTHER INFORMATION CONTACT: Jason Berthiaume, Fishery Management Specialist, 978-281-9177.

SUPPLEMENTARY INFORMATION: Cornell Cooperative Extension (CCE) is conducting a study that was selected under the 2012 Monkfish Research Set-Aside (RSA) Program. The primary goal of the study is to determine if monkfish constitute one or more stocks over their coast-wide distribution. CCE is using a genetic approach utilizing a microsatellite DNA analysis. Biological samples are being collected throughout the monkfish range. The vessels are using standard commercial gear and land monkfish for sale, but the sampling locations are determined by CCE.

To conduct compensation fishing in support of the project, CCE submitted an application for an exempted fishing permit (EFP) on April 17, 2012, requesting exemptions from the monkfish days-at-sea (DAS) possession limits. However, due to the complications resulting from the Endangered Species Act listing of Atlantic sturgeon, NMFS did not issue an EFP. The applicant has since modified the EFP application and submitted a revised application on March 5, 2013. The EFP would exempt vessels fishing in depths greater than 50 fathoms (91 m) in the Southern Monkfish Fishery Management Area (SFMA) from applicable monkfish possession limits. Seventeen vessels have been identified by the applicant to conduct monkfish compensation fishing under the requested EFP.

Monkfish EFPs that waive possession limits were first issued in 2007, and each year thereafter through 2011. The EFPs were approved to increase operational efficiency and to optimize research funds generated from RSA DAS. To ensure that the amount of monkfish harvested by vessels operating under the EFPs was similar to the amount of monkfish that was anticipated to be harvested under the 500 RSA DAS set-aside by the New England Fishery Management Council, NMFS has used 3,600 lb (1,633 kg) of whole monkfish per RSA DAS. This amount of monkfish was the equivalent of a double possession limit of Permit Category A and C vessels fishing in the SFMA. This was deemed a reasonable approximation because it was reflective of how the standard monkfish commercial fishery operates. Further, it is likely that RSA grant recipients would optimize their RSA DAS award by utilizing this possession limit.

Prior to the submission of CCE's RSA proposal, NMFS implemented Amendment 5 to the Monkfish FMP. Amendment 5 adjusted the tail-to-whole-weight conversion factor from 3.32 to 2.91, which essentially reduced the whole weight possession limits. However, CCE has noted that because its RSA proposal and budget were developed in a manner that was consistent with previously approved EFPs, the request is justified. Therefore, if approved, participating vessels could use up to 250 DAS, or up to 900,000 lb (408,233.3 kg) of whole monkfish, under the EFP, whichever comes first.

Waiving the possession limit is not expected to increase monkfish fishing effort, but could alter the time and place where fishing occurs. Consequently, there is some uncertainty as to how the waiver could influence fishing behavior, and if it could increase the likelihood of an Atlantic sturgeon interaction. To mitigate this uncertainty, the applicant has proposed that all vessels operating under the EFP would only fish seaward of 50 fathoms (91 m), where Atlantic sturgeon interactions are extremely rare.

When applicable or as required by the regulations, participating vessels may also concurrently use Northeast multispecies DAS while conducting monkfish compensation fishing. Northeast multispecies catch is not expected to be high within the defined area and would likely consist primarily of white hake and witch flounder, which would be landed for commercial sale. All catch of Northeast multispecies would be accounted for under applicable Northeast multispecies quotas.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 3, 2013.
James P. Burgess,
Acting Deputy Director, Office of Sustainable Fisheries, National Marine Fisheries Service.

[FR Doc. 2013-08125 Filed 4-8-13; 8:45 am]

BILLING CODE 3510-22-P